FEDERAL COMMUNICATIONS COMMISSION

Notice of Public Information Collection(s) Being Reviewed by the Federal Communications Commission for Extension Under Delegated Authority

October 13, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before December 28, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0194.

Title: Section 74.21, Broadcasting Emergency Information.

Form No.: Not applicable.

Type of Review: Extension of a currently approved collection.

Respondents: Business or other for-profit.

Number of Respondents: 1.

Estimated Time per Response: 1 hour.

Frequency of Response: On occasion reporting requirement.

Total Annual Burden: 1 hour.

Total Annual Cost: Not applicable.

Privacy Act Impact Assessment: Not applicable.

Needs and Uses: In the event of an emergency, Section 74.21 requires that a licensee of an auxiliary broadcast station notify the FCC in Washington, DC, as soon as practical, when that station is operated in a manner other than that for which it is authorized. This notification shall specify the nature of the emergency and the use to which the station is being put. The licensee shall also notify the FCC when the emergency operation has been terminated. These notifications are used by FCC staff to evaluate the need and nature of the emergency broadcast to confirm that an actual emergency existed.

OMB Control Number: 3060-0660.

Title: Section 21.937, Negotiated Interference Protection.

Form No.: Not applicable.

Type of Review: Extension of a currently approved collection.

Respondents: Business or other for-profit.

Number of Respondents: 75.

Estimated Time per Response: 30 hours.

Frequency of Response: On occasion reporting requirement.

Total Annual Burden: 450 hours.

Total Annual Cost: $300,000.

Privacy Act Impact Assessment: Not applicable.

Needs and Uses: Occurs at or within the boundaries of an adjacent Basis Trading Area (BTA), partitioned service area or an incumbent Multipoint Distribution Service (MDS) station's protected service area, can be negotiated and established with the written consent of the affected licensee. Thus, Section 21.937 permits negotiated interference agreements among these parties. These written agreements must be submitted to the Commission within thirty days of ratification. (These agreements are often included with the submission of the FCC Form 304 attached as Exhibits.) These agreements allow the parties to establish acceptable levels of interference based on design of their stations and service needs. These agreements are the most effective means of regulating interference and they provide flexibility in designing MDS systems.

OMB Control Number: 3060-0661.

Title: Section 21.931, Partitioning of BTAs.

Form No.: Not applicable.

Type of Review: Extension of a currently approved collection.

Respondents: Business or other for-profit.

Number of Respondents: 10.

Estimated Time per Response: 7 hours.

Frequency of Response: On occasion reporting requirement.

Total Annual Burden: 10 hours.

Total Annual Cost: $11,000.

Privacy Act Impact Assessment: Not applicable.

Needs and Uses: Section 21.931 permits a Basic Trading Area (BTA) to enter into contracts with eligible parties to partition any contiguous portion of its service area. Under Section 21.931(a)(2), applicants are required to submit partitioning contracts with the Commission within 30 days of the date the contracts are reached. These contracts will be submitted with one of the following: (1) An Multipoint Distribution Service (MDS) long-term application; (2) an application for assignment or transfer; or (3) a statement of intention. These collections have separate OMB control numbers. These partitioning contracts will facilitate the development of successful wireless cable systems in rural areas and will make the most efficient use of the available spectrum. The contracts designate the specific geopolitical boundaries used to partition the BTA. The Commission will apply the same MDS technical rules to partitioned service areas.

OMB Control Number: 3060-0992.

Title: Request for Extension of the Implementation Deadline for Non-Recurring Services, CC Docket No. 96-45 (FCC 01-195) and 47 CFR Section 54.507(d)(1)-(4).

Form No.: Not applicable.

Type of Review: Extension of a currently approved collection.

Respondents: Business or other for-profit, and not-for-profit institutions.

Number of Respondents: 850.

Estimated Time per Response: 1 hour.

Frequency of Response: On occasion reporting requirement, and third party disclosure requirement.

Total Annual Burden: 850 hours.

Total Annual Cost: Not applicable.

Privacy Act Impact Assessment: Not applicable.

Needs and Uses: Section 54.507(d) provides additional time for recipients under the schools and libraries universal service support mechanism to implement contracts or agreements with service providers for non-recurring services. Section 54.507(d) extends the deadline for receipt of non-recurring services from 6/30 to 9/30 following the close of the funding year. Section 54.507(d) establishes a deadline for the implementation of non-recurring services for certain qualified applicants who are unable to complete implementation by the September 30 deadline. The rule provides schools and libraries with more time to install non-recurring services.

Federal Communications Commission.
Marlene H. Dortch,
Secretary.

[FR Doc. 04-24273 Filed 10-28-04; 8:45 am]

BILLING CODE 6712-01-P